NUCLEAR REGULATORY COMMISSION

[NRC-2010-0002]

Sunshine Act; Meeting Notice

Agency Holding the Meetings: Nuclear Regulatory Commission.

DATES: Weeks of March 8, 15, 22, 29, April 5, 12, 2010.

Place: Commissioners' Conference Room, 11555 Rockville Pike, Rockville, Maryland.

Status: Public and Closed.

Week of March 8, 2010

Thursday, March 11, 2010

10:30 a.m.

Affirmation Session (Public Meeting) (Tentative).

a. Progress Energy Carolinas, Inc. (Shearon Harris Nuclear Power Plant, Units 2 and 3), Notice of Appeal, Request for Oral Argument and Brief Supporting Notice of Appeal by NC WARN (July 22, 2009) (Tentative).

b. U.S. Department of Energy (High Level Waste Repository) Appeal of William D. Peterson (Tentative).

c. Final Rule: 10 CFR 51.22, “Criterion for Categorical Exclusion; Identification of Licensing and Regulatory Actions Eligible for Categorical Exclusion or Otherwise Not Requiring Environmental Review” (RIN 3150-AI27) (Tentative).

Week of March 15, 2010—Tentative

Tuesday, March 16, 2010

1:30 p.m.

Joint Meeting of the Federal Energy Regulatory Commission and the Nuclear Regulatory Commission on Grid Reliability (Public Meeting). (Contact: Kenn Miller, 301-415-3152.)

This meeting will be webcast live at the Web address— http://www.nrc.gov.

Week of March 22, 2010—Tentative

There are no meetings scheduled for the week of March 22, 2010.

Week of March 29, 2010—Tentative

There are no meetings scheduled for the week of March 29, 2010.

Week of April 5, 2010—Tentative

Tuesday, April 6, 2010

9 a.m.

Periodic Briefing on New Reactor Issues—Design Certifications (Public Meeting). (Contact: Amy Snyder, 301-415-6822.)

This meeting will be webcast live at the Web address— http://www.nrc.gov.

Thursday, April 8, 2010

9:30 a.m.

Briefing on Regional Programs—Programs, Performance, and Future Plans (Public Meeting). (Contact: Richard Barkley, 610-337-5065.)

This meeting will be webcast live at the Web address— http://www.nrc.gov.

Week of April 12, 2010—Tentative

There are no meetings scheduled for the week of April 12, 2010.

* The schedule for Commission meetings is subject to change on short notice. To verify the status of meetings, call (recording)—(301) 415-1292. Contact person for more information: Rochelle Bavol, (301) 415-1651.

Additional Information

The Briefing on Regional Programs—Programs, Performance, and Future Plans previously postponed from Tuesday, February 9, 2010, at 9:30 a.m. has been rescheduled on Thursday, April 8, 2010, at 9:30 a.m.

The NRC Commission Meeting Schedule can be found on the Internet at: http://www.nrc.gov/about-nrc/policy-making/schedule.html.

The NRC provides reasonable accommodation to individuals with disabilities where appropriate. If you need a reasonable accommodation to participate in these public meetings, or need this meeting notice or the transcript or other information from the public meetings in another format (e.g. braille, large print), please notify Angela Bolduc, Chief, Employee/Labor Relations and Work Life Branch, at 301-492-2230, TDD: 301-415-2100, or by e-mail at angela.bolduc@nrc.gov. Determinations on requests for reasonable accommodation will be made on a case-by-case basis.

This notice is distributed electronically to subscribers. If you no longer wish to receive it, or would like to be added to the distribution, please contact the Office of the Secretary, Washington, DC 20555 (301-415-1969), or send an e-mail to darlene.wright@nrc.gov.

Dated: March 4, 2010.
Rochelle C. Bavol,
Office of the Secretary.

[FR Doc. 2010-5093 Filed 3-5-10; 4:15 pm]

BILLING CODE 7590-01-P